DEPARTMENT OF JUSTICE

Office of Justice Programs

[OMB Number XXXX-XXXX]

Agency Information Collection Activities; Proposed eCollection of eComments Requested; New Collection; Generic Clearance for the Collection of Qualitative Data To Support National Institute of Justice Research and Assessment

AGENCY: Office of Justice Programs, Department of Justice.

ACTION: 30-Day notice.

SUMMARY: The Department of Justice (DOJ), Office of Justice Programs, will be submitting the following information collection request to the Office of Management and Budget (OMB) for review and approval in accordance with the Paperwork Reduction Act of 1995.

DATES: Comments are encouraged and will be accepted for 30 days until August 8, 2022.

FOR FURTHER INFORMATION CONTACT: If you have additional comments especially on the estimated public burden or associated response time, suggestions, or need a copy of the proposed information collection instrument with instructions or additional information, please contact Benjamin Adams, Social Science Analyst, National Institute of Justice, 810 Seventh Street NW, Washington, DC 20531 (email: benjamin.adams@usdoj.gov; telephone: 202-616-3687).

SUPPLEMENTARY INFORMATION: Written comments and suggestions from the public and affected agencies concerning the proposed collection of information are encouraged. Your comments should address one or more of the following four points:

—Evaluate whether the proposed collection of information is necessary for the proper performance of the functions of the agency, including whether the information shall have practical utility;

—Evaluate whether the accuracy of the agency's estimate of the burden on the proposed collection of information, including the validity of the methodology and assumptions that were used;

—Evaluate whether and if so how the quality, utility, and clarity of the information collected can be enhanced; and

—Minimize the burden of the collection of information on those who are to respond, including use of appropriate automated, electronic, mechanical, or other technological collection techniques or other forms of information technology, e.g., permitting electronic submission of responses.

Overview of This Information Collection

1. Type of Information Collection: New collection.

2. The Title of the Form/Collection: Generic Clearance for the Collection of Qualitative Data to Support National Institute of Justice Research and Assessment.

3. The agency form number, if any, and the applicable component of the Department sponsoring the collection: Not applicable (new collection).

4. Affected public who will be asked or required to respond, as well as a brief abstract:

Respondents/affected entities: Administrators or staff of state and local agencies or programs in the relevant fields; administrators or staff of non-government agencies or programs in the relevant fields; individuals; policymakers at various levels of government.

Abstract: The National Institute of Justice (NIJ) is requesting a generic clearance for the purpose of conducting qualitative research and assessment. NIJ's mission is to advance scientific research, development, and evaluation to enhance the administration of justice and public safety. The proposed information collection activities will enable NIJ to better understand emerging crime and justice issues pertinent to its research mission, inform the development of intramural and extramural research projects, and ensure relevant information is available for use in the planning, management, and assessment of NIJ research portfolios. NIJ anticipates using a variety of techniques including, but not limited to, individual in-depth interviews, semi-structured small group discussions, focus groups, and questionnaires to reach these goals.

NIJ will only submit a collection for approval under this generic clearance if the collections are voluntary; the collections are low burden for respondents and are low- or no-cost for both the respondents and the Federal Government; the collections are noncontroversial; personally identifiable information is collected only to the extent necessary and is not retained; information gathered will not be used for the purpose of substantially informing influential policy decisions; and information gathered will yield qualitative information.

Following standard Office of Management and Budget (OMB) requirements, NIJ will submit an individual request to OMB for every group of data collection activities undertaken under this generic clearance. NIJ will provide OMB with a copy of the individual instruments or questionnaires (if one is used), as well as other materials describing the project. Currently, NIJ anticipates the need to conduct qualitative research that will include the collection of information from law enforcement agencies, jails, prisons, and the state agencies, local governments, and nonprofit organizations.

5. An estimate of the total number of respondents and the amount of time estimated for an average respondent to respond: It is estimated that approximately 2,500 respondents will be involved in the anticipated qualitative research over the 3-year clearance period. Specific estimates for the average response time are not known for the work covered under a generic clearance, however, an estimate of overall burden is included in item 6 below.

6. An estimate of the total public burden (in hours) associated with the collection: The estimated public burden for identified and future projects covered under this generic clearance over the 3-year clearance period is approximately 3,000 hours.

If additional information is required contact: Robert Houser, Assistant Director, United States Department of Justice, Justice Management Division, Policy and Planning Staff, Two Constitution Square, 145 N Street NE, 3E.405A, Washington, DC 20530.

Dated: July 5, 2022.
Robert Houser,
Assistant Director, Policy and Planning Staff, U.S. Department of Justice.

[FR Doc. 2022-14583 Filed 7-7-22; 8:45 am]

BILLING CODE 4410-18-P